DEPARTMENT OF JUSTICE

Antitrust Division

Notice Pursuant to the National Cooperative Research and Production Act of 1993—J Consortium, Inc.

Notice is hereby given that, on January 30, 2002, pursuant to section 6(a) of the National Cooperative Research and Production Act of 1993, 15 U.S.C. 4301 et seq. (“the Act”), J Consortium, Inc. has filed written notifications simultaneously with the Attorney General and the Federal Trade Commission disclosing changes in its membership status. The notifications were filed for the purpose of extending the Act's provisions limiting the recovery of antitrust plaintiffs to actual damages under specified circumstances. Specifically, Chess, Haarlem, THE NETHERLANDS; INFOCOMM, Edgewater, NJ; Neil Acantilado (individual member), San Diego, CA; Junisha Anderson (individual member), Santa Clara, CA; Jean-Bernard Blanchet (individual member), Paris, FRANCE; Jacky Boscher (individual member), Bretagne, FRANCE; Bruce Carothers (individual member), Corte Maders, CA; Jimmy Brian Christanthio (individual member), Singapore, SINGAPORE; Jimmy Creyland (individual member), Linkoping, SWEDEN; Ingbert Krannich (individual member), Bavaria, GERMANY; Mauro Marcelo Mattos (individual member), Blumenau, BRAZIL; Ramon Piedrafita Moreno (individual member), Zaragoza, SPAIN; Ted Powers (individual member), Arlington Heights, IL; Lokasani Venkata Reddy (individual member), Hyderabad, INDIA; and Edward J. Rhodes (individual member), Burlington, MA have been added as parties to this venture.

Also, Jmchen, Zhejiang, PEOPLE'S REPUBLIC OF CHINA; Wangzhi, Zhejiang, PEOPLE's REPUBLIC OF CHINA; and Steve Chaloner, UK Ministry of Defense, Wiltshire, England, UNITED KINGDOM have been dropped as parties to this venture.

No other changes have been made in either the membership or planned activity of the group research project. Membership in this group research project remains open, and J Consortium, Inc. intends to file additional written notification disclosing all changes in membership.

On August 9, 1999, J Consortium, Inc. filed its original notification pursuant to section 6(a) of the Act. The Department of Justice published a notice in the Federal Register pursuant to section 6(b) of the Act on March 21, 2000 (65 FR 15175).

The last notification was filed with the Department on October 9, 2001. A notice was published in the Federal Register pursuant to section 6(b) of the Act on November 13, 2001 (66 FR 56863).

Constance K. Robinson,
Director of Operations, Antitrust Division.

[FR Doc. 02-5535 Filed 3-7-02; 8:45 am]

BILLING CODE 4410-11-M